DEPARTMENT OF HEALTH AND HUMAN SERVICES

Administration for Children and Families

[Program Announcement No. ACYF/HS-2003-17]

Fiscal Year 2003 Discretionary Grant Announcement for Head Start Partnerships With Tribally Controlled Land Grant Colleges and Universities; Availability of Funds and Request for Applications

AGENCY: Administration on Children, Youth and Families (ACYF), Administration for Children and Families (ACF), DHHS.

ACTION: Announcement of the availability of funds and request for applications for professional development and training grants Tribally Controlled Land Grant Colleges and Universities (TCU) in partnership with Head Start and Early Head Start programs to improve services to American Indian and Alaska Native children and their families.

The catalog of Federal Domestic Assistance Number is 93.600.

SUMMARY: The Administration for Children and Families (ACF), Administration on Children, Youth and Families (ACYF), announces the availability of up to $1,500,000 in funds for Tribally Controlled Land Grant Colleges and Universities (TCU) in partnership with Head Start and Early Head Start programs. The purpose is to improve the quality and long-term effectiveness of Head Start and Early Head Start program services to American Indian and Alaska Native children and their families by developing academic and other training models and forming partnerships between the TCUs and Head Start and Early Head Start programs.

CLOSING DATE: The closing time and date for receipt of application is 4:30 p.m. (Eastern Time) on August 20, 2003. Applications received after the closing date and time will be classified as late.

ADDRESSES: Mailed and hand-carried applications will be received at the following address: ACYF Operations Center, Head Start Partnerships with Tribally Controlled Land Grant Colleges/Universities (TCUs), 1150 Connecticut Avenue, NW., Suite 1100, Washington, DC 20036, Telephone: 1-800-351-2293, e-mail: HSB@esilsg.org.

Hand delivered, courier or overnight delivery applications are accepted during the normal working hours of 8 a.m. to 4:30 p.m., Monday through Friday, on or prior to the established closing date. All packages should be clearly labeled as follows: Application for Head Start Partnerships with Tribally Controlled Land Grant Colleges/Universities (TCUs).

FOR FURTHER INFORMATION CONTACT: The Head Start Discretionary Grant Support Team (1-800-351-2293) is available to answer questions concerning application requirements and to refer you to the appropriate contact person in ACYF for programmatic questions. You may e-mail your questions to: e-mail: HSB@esilsg.org. When contacting ACYF directly with programmatic questions send to William Wilson, Grants Officer, 330 C Street, SW., Washington, DC 20447, 202-205-8913, wwilson@acf.hhs.gov.

If you are interested in submitting an application, please send a post card or call at least four weeks prior to the submission deadline with the following information: The name, address, telephone and fax numbers, and e-mail address of the principal investigator and the name of the institution. This information will be used to determine the number of expert reviewers needed to evaluate applications. Send the declaration of interest information to: ACYF Operations Center, 1150 Connecticut Avenue, NW., Suite 1100, Washington, DC 20036, Telephone: 1-800-351-2293, e-mail: HSB@esilsg.org.

Copies of the program announcement, necessary application forms and appendices can be obtained by contacting the above address, and/or visiting the ACYF Web site at http://www.acf.hhs.gov/programs/hsb/grant/fundingopportunities/fundopport.htm.

Fiscal Year 2003 Discretionary Announcement for Head Start Partnerships With Tribally Controlled Land Grant Colleges/Universities (TCUs)

Part I. Purpose and Background

A. Purpose

This announcement of financial assistance, to be competitively awarded to Tribally Controlled Land Grant Colleges and Universities (TCUs), is to utilize the capabilities of these institutions of higher education to improve the quality and long-term effectiveness of Head Start and Early Head Start programs. This will be achieved by providing academic training and forming partnerships between the TCUs and Head Start grantees and delegate agencies funded through the American Indian and Alaskan Native Programs Branch (AIANPB) of the Head Start Bureau. The institutions of higher education that will be funded under this announcement, together with those TCUs currently funded under this initiative, will form a consortium to share methods, approaches, experiences, and lessons learned. The consortium is a partner of the Head Start National Training and Technical Assistance (T&TA) network in providing assistance to AIANPB Head Start grantees.

Throughout this announcement, the term Head Start program or Head Start agency refers to both AIANPB funded Head Start and Early Head Start grantees or delegate agencies unless otherwise specifically noted.

B. Background

The overall goal of Head Start is to ensure that children of low-income families nearing the end of the preschool period and entering school are ready for school success. In order to accomplish this goal, Head Start provides comprehensive services to the children and their families. Head Start enhances children's physical, intellectual, social, and emotional development. It supports parents in their efforts to fulfill their parental roles and provides for their involvement in implementing the Head Start program. Another goal of Head Start is to strengthen community supports for families with young children while they are working towards employment and self-sufficiency.

In an attempt to ensure quality services to children and their low-income families Head Start has conducted many demonstration projects, provided grantees with training and technical assistance, and given grantees funds to implement their own training efforts. For example, Head Start supported the creation of the Child Development Associate (CDA) credential designed for early childhood development teaching staff and implemented the Head Start Teaching Centers and other innovative projects.

The Head Start-Tribally Controlled Land Grant Colleges/Universities Partnerships are closely aligned with the Head Start tradition of creating innovative programs and working with low-income children and their families. From 1999 to 2001, ACF awarded grants to 16 TCUs to form partnerships with Head Start programs funded through AIANPB and to provide training and education to Head Start staff members. A list of these 16 institutions can be found in Appendix A. This announcement will fund additional partnerships between AIANPB Head Start programs and TCUs.

In the 1998 reauthorization of the Head Start Act, a key priority of Congress was to continue to improve Head Start program quality and accountability. A number of provisions were included in the new law to achieve these goals, including new education performance standards and measures, expansion of program monitoring to incorporate evidence of progress on outcomes-based measures, expanded funding to upgrade program quality and staff compensation, and higher education standards for Head Start teachers. Among these provisions is the requirement that, by September 30, 2003, at least half of all Head Start teachers in center-based programs must have an AA, BA, or advanced degree in Early Childhood Education (ECE) or in a related field with preschool teaching experience. A degree in a field related to early childhood education means a program of study that includes six or more courses in early childhood education and/or child development. Teachers who have degrees in related fields must also have experience teaching pre-school children. The Head Start Bureau is providing various forms of assistance to local Head Start programs to implement this teacher qualification legislative mandate. For example, to enhance the numbers of teachers with degrees in early childhood education, grantees have received $43,000,000 in funding in 1999 and an additional $43,000,000 in 2000 to increase teacher salaries and expand access to higher education courses and degree programs. Head Start-State Collaboration Offices and training and technical assistance providers currently help Head Start programs work with higher education institutions on challenges such as linking training obtained in conjunction with the CDA credential with academic credit and courses leading to AA and BA degrees in early childhood education.

In January 2001, the President signed into law the “No Child Left Behind Act” to make the education of every child in America one of the country's top priorities. The Act seeks to ensure that public schools teach children what they need to know to be successful in life and that they also set high education standards in the classroom. In his 2002 State of the Union address, the President indicated the need to prepare our children to read and succeed in school, including the improvement of Head Start and early childhood development programs. In response to these goals, the White House has developed an early childhood initiative, which is built on raising the bar for Head Start Education through researched methods that create a better learning environment and improved outcomes for children. In his announcement of the Good Start, Grow Smart Early Childhood Initiative in April 2002, the President identified children's early literacy as a key focus for Head Start program improvement. In this initiative, the President presented three areas of focus for Head Start: (1) Strengthening Head Start programs; (2) partnering with states to improve early childhood education, and (3) providing information to teachers, caregivers, and parents. The Head Start Bureau quickly responded to the President's mandate by developing the Strategic Teacher Education Project (STEP) in June 2002. The purpose of Project STEP is to ensure that all Head Start teachers engage in research-based strategies to support children's early literacy and positive social and emotional development, which, in turn, will lead to positive child outcomes and school readiness.

Under this announcement, TCUs must form a partnership with one or more AIANPB Head Start grantees, to develop curriculums and provide education and/or training to Head Start teachers. The partnership agreements must be beneficial to both the TCUs and the participating Head Start grantees.

Partnership agreements must provide academic training and credit hours for a specified number of Head Start teachers. Partnership agreements must provide culturally appropriate education for Head Start teachers that would lead to academic degrees. These agreements must help Head Start teachers to provide courses on how to enhance early literacy, how to assess outcomes of Head Start children, and/or how to involve fathers in the lives of their children.

All project applications must address one of the following priority areas:

1. Partnerships to increase the number of center-based teachers with two-year degrees in early childhood education, and

2. Partnerships to increase the competency of Head Start in building quality Head Start programs, particularly in enhancing language development, early literacy and socio-emotional development, as well as assessing child outcomes.

Part II. Program Information

A. Statutory Authority

The Head Start Act, as amended, 42 U.S.C. 9801 et seq.

B. Eligible Applicants

Tribally Controlled Land Grant Colleges and Universities are those institutions cited in section 532 of the Equity in Educational Land Grant Status Act of 1994 (7 U.S.C. 301 note), any other institution that qualifies for funding under the Tribally Controlled Community College Assistance Act of 1978, (25 U.S.C. 1801 et seq.), and Navajo Community College, Authorized in the Navajo Community College Assistance Act of 1978, Public Law 95-471, title II (25 U.S.C. 640a note). Those TCUs that are not accredited are not eligible to apply under this announcement. TCUs that received the Head Start Partnerships with TCUs grant in 2001 are not eligible to compete under this announcement. These institutions are listed in Appendix A.

C. Project Duration

The length of the project period must not exceed 60 months. This announcement is soliciting applications for project periods up to five years. Awards, on a competitive basis, will be for a one-year budget period, although project periods may be for five years. Applications for continuation grants funded under these awards beyond the one-year budget period but within the five-year project period will be reviewed in subsequent years on a non-competitive basis, subject to availability of funds, satisfactory progress of the grantee, and a determination that continued funding would be in the best interest of the Government.

D. Federal Share of Project Costs

It is anticipated that up to $1,500,000 in ACF funds will be made available annually. The maximum share for each project is not to exceed $150,000 per year per project.

E. Number of Projects To Be Funded

It is anticipated that up to 10 projects will be funded.

F. Matching Requirement

There are no matching requirements, however applicants are encouraged to provide non-Federal contributions to the project.

Part III. Application Requirements

The following Uniform Project Description (UPD) has been approved by OMB under control number 0970-0139.

A. Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

B. General Instructions

ACF is particularly interested in specific factual information and statements of measurable goals in quantitative terms. Project descriptions are evaluated on the basis of substance, not length. Extensive exhibits are not required. Supporting information concerning activities that will not be directly funded by the grant or information that does not directly pertain to an integral part of the grant funded activity should be placed in an appendix. Pages are to be numbered and included in a table of contents for easy reference.

Introduction

Applicants are required to submit a full project description and shall prepare the project description statement in accordance with the following instructions and the specified evaluation criteria. The instructions give a broad overview while the evaluation criteria expand and clarify more program-specific information that is needed.

a. Project Summary/Abstract

Provide a summary of the project description (a page) with reference to the funding request.

b. Objectives and Need for Assistance

Clearly identify the physical, economic, social, financial, institutional, and or problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

c. Results or Benefits Expected

Identify the results and benefits to be derived. For example, using a comprehensive review of the current literature, justify how the research questions and the findings will add new knowledge to the field or how it will improve services for children and families.

d. Approach

Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the proportion of data collection expected to be completed. When activity or function cannot quantify accomplishments, list them in chronological order to show the schedule of accomplishments and their target dates.

If any data are to be collected, maintained, and/or disseminated, clearance may be required from the U.S. Office of Management and Budget (OMB). This clearance pertains to any “collection of information that is conducted or sponsored by ACF.” List organizations, cooperating entities, consultants, or other key individuals who will work on the project along with a short description of the nature of their effort or contribution.

C. Additional Information

Following is a description of additional information that should be placed in the appendix to the application:

a. Staff and Position Data

Provide a job description for each key position and a biographical sketch for each key person appointed. A biographical sketch with acceptable credentials will also be required for new key staff as appointed.

b. Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. The non-profit agency can accomplish this by providing a copy of the applicant's listing in the Internal Revenue Service's (IRS) most recent list of tax-exempt organizations described in section 501(c)(3) of the IRS code, or by providing a copy of the currently valid IRS tax exemption certificate, or by providing a copy of the articles of incorporation or similar document that clearly establishes non-profit status bearing the seal of the State in which the corporation or association is domiciled or a statement from a State taxing body, State attorney general, or other appropriate State official certifying the applicant organization has a non-profit status and none of the net earnings accrue to any private shareholders or individuals or any of the items in the subparagraphs immediately above for a State or national organization and a statement signed by the parent organization that the applicant organization is a local non-profit affiliate. Faith-based institutions are encouraged to submit with their application the optional survey located under “Grant Manuals and Forms” at http://www.acf.hhs.gov/programs/ofs/forms.htm.

c. Dissemination Plan

Provide a plan for distributing reports and other project outputs to colleagues and the public. Applicants must provide a description of the kind, volume and timing of distribution.

d. Budget And Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

D. General Budget Information

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

a. Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

b. Fringe Benefits

Description: Costs of employee fringe benefits unless treated as part of an approved indirect cost rate.

Justification: Provide a breakdown of the amounts and percentages that comprise fringe benefit costs such as health insurance, FICA, retirement insurance, taxes, etc.

c. Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored conferences should be detailed in the budget.

d. Equipment

Description: Costs of tangible, non-expendable, personal property, having a useful life of more than one year and an acquisition cost of $5,000 or more per unit. However, an applicant may use its own definition of equipment provided that such equipment would at least include all equipment defined above.

Justification: For each type of equipment requested, provide a description of the equipment, the cost per unit, the number of units, the total cost, and a plan for use on the project, as well as use or disposal of the equipment after the project ends. An applicant organization that uses its own definition for equipment should provide a copy of its policy or section of its policy which includes the equipment definition.

e. Supplies

Description: Costs of all tangible personal property other than that included under the Equipment category.

Justification: Specify general categories of supplies and their costs. Show computations and provide other information that supports the amount requested.

f. Other

Enter the total of all other costs. Such costs, where applicable and appropriate, may include but are not limited to insurance, food, medical and dental costs (non-contractual), professional services costs, space and equipment rentals, printing and publication, computer use, training costs, such as tuition and stipends, staff development costs, and administrative costs.

Justification: Provide computations, a narrative description and a justification for each cost under this category.

g. Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

h. Total Direct Charges, Total Indirect Charges, Total Project Costs

Self explanatory.

Part IV. Evaluation Criteria and Review Process

A. Evaluation Criteria

In considering how applicants will carry out the responsibilities addressed under this announcement, competing applications for financial assistance will be reviewed and evaluated against the following criteria:

Criterion 1. Approach: (45 points)

The extent to which the application, having met the minimum requirements, designs an acceptable plan of action pertaining to the scope of the project which details how the proposed work will be accomplished. Include a timeline; lists of each organization, consultants, including key individuals who will work on the project along with a short description of the nature of their effort or contribution. Assure the adequacy of time devoted to the project by key staff. The key staff should be qualified and knowledgeable of Head Start. The applicant must fully describe the approach and/or methodology and delineate the relationship of each task to the accomplishment of the proposed objectives. There should be evidence that the planned approach reflects sufficient input from and partnership with AIANPB funded Head Start programs.

The Head Start Bureau is particularly interested in the following aspects of the approach:

1. Describe the planning the applicant will conduct during the start-up period to prepare for implementation of the program. Provide assurance that no more than six months will be devoted to planning activities.

2. Indicate how staff will be recruited and selected to participate in the program. Clearly describe how the training and/or coursework will be contextually and culturally relevant to the Head Start and Early Head Start environment and how it will contribute to enhancing the effectiveness of teachers, program quality and outcomes for Head Start children and families.

3. Describe efforts by the TCU and Head Start partners to make training and/or coursework accessible to Head Start participants and to support their successful completion of courses, training, and degrees. Include discussion of issues such as timing, scheduling, and location of classes or training; support to enhance the literacy and study skills of participants, and approaches to integrate training in the working environment of the Head Start program. Provide assurance that training/courses are offered at no cost to trainees.

4. Describe efforts to complement the Federal funds requested in this proposal with other sources to maximize the benefits to the TCU. Include any efforts or plans to assist Head Start staff in accessing sources of financial assistance or to make use of other funding for training and career development of early childhood program staff.

5. Document that the TCU currently offers training and/or credit courses, and proposes to offer credit courses in the priority areas.

6. In case of academic training, describe how the staff's CDA training and certification as well as previous coursework and credits will be linked to academic credits and course sequences leading to academic degrees. Applicant should indicate how many Head Start and Early Head Start staff members will be included in this effort.

7. Describe the organizational structure that will support the project objectives. Indicate how joint planning and assessment with the AIANPB Head Start and Early Head Start grantees will be implemented with timelines and clear lines of responsibility. Indicate how project staff positions are assigned and describe their major functions and responsibilities.

8. Describe the role the institution will play in the TCU consortium funded under this initiative, and as a partner in the national training and technical assistance network.

9. Describe the activities that will continue after the completion of this project that will ensure that the TCU will continue to participate in providing educational opportunities for AIANPB Head Start and Early Head Start staff.

Criterion 2. Results or Benefits Expected: (20 points)

The extent to which the application identifies the results and benefits to be derived; describes the anticipated contribution to policy, practice, theory and/or research; specific benefits should be described for both the TCU and AIANPB Head Start program.

The Head Start Bureau is particularly interested in the following:

1. Based on the stated program objectives, identify the results and benefits to be derived. Identify the specific results or benefits that could be expected for the Head Start grantees and the TCU. Describe how Head Start children will benefit from the project.

2. Identify both qualitative and quantitative data the program will collect to measure progress towards the stated results or benefits. Identify how the program will determine the extent to which it has achieved its stated objectives.

3. To propose academic training leading to a college degree, provide a projection of the estimated number of teachers that will earn degrees over the duration of the project based on an analysis of the current levels of credits/courses earned by participants and a proposed sequence of courses.

Criterion 3. Budget and Budget Justification: (15 Points)

The extent to which the project's costs are reasonable in view of the activities to be carried out and the anticipated outcomes.

Applicable Administrative Regulations

Applicable administrative regulations include 45 CFR part 74, Administration of Grants, for profit agencies and 45CFR part 92, Uniform Administrative Requirements for Grants and Cooperative Agreements to State and local Governments.

Post-Award Reporting Requirements

Post-Award Reporting Requirements include submission of quarterly programmatic and budget reports. Program reports must clearly outline status on the accomplishment of stated goals and objectives. Financial reports must provide status of budget expenditures, as well as identifying any projected savings or shortages.

Criterion 4. Objectives and Need for Assistance: (10 Points)

The extent to which the application identifies relevant physical, economic, social, financial, institutional or other problems requiring a grant; demonstrates the need for assistance; states the principal and subordinate objectives of the project; provides supporting documentation or other testimonies from concerned interests other than the applicant.

The Head Start Bureau is particularly interested in the following:

1. State the objectives for the program. Indicate how these objectives are based on an assessment of community needs and how they relate to Head Start goals. Describe the process used to assess the need for the proposed program including the total number of staff needing training, including preschool and infant/toddler teachers. If an assessment already exists, the applicant should describe the process used and explain any additional consultation as it relates to the development of the proposed program.

2. Specifically identify the population to be served. Indicate the AIANPB Head Start and Early Head Start grantees that are proposed as participating partners, the numbers and types of staff to be trained and the proposed areas of training, courses, and/or degrees to be awarded, as appropriate.

3. Describe the development of institution's agreement with Head Start partnerships and any other consultation related to the development of the proposed initiative. Describe any efforts to frame the proposed initiative within broader state or community efforts to enhance professional and career development for staff in all forms of early childhood and child care programs. Include support letters that document consultation and support from the proposed grantee or delegate agency partners, the Regional Head Start Quality Improvement Center (QICs), the Head Start State Collaboration Office, and any existing state early care and education initiatives.

Criterion 5. Geographic Location: (10 Points)

The extent to which the application gives a precise location of the project and area to be served, including the location of the AIANPB Head Start and Early Head Start grantees.

B. Review Process

Applications received by the due date will be reviewed and scored competitively. Experts in the field, generally persons from outside the Federal government, will use the evaluation criteria listed in part III of this announcement to review and score the applications. The results of this review are a primary factor in making funding decisions. ACYF may also solicit comments from ACF Regional Office staff and other Federal agencies.

Part V. Instructions For Submitting Applications

A. Required Forms

Eligible applicants interested in applying for funds must submit a complete application including the required forms included at the end of this program announcement. In order to be considered for a grant under this announcement, an application must be submitted on the Standard Form 424 (approved by the Office of Management and Budget under Control Number 0348-0043). A copy has been provided. Each application must be signed by an individual authorized to act for the applicant and to assume responsibility for the obligations imposed by the terms and conditions of the grant award. Applicants requesting financial assistance for non-construction projects must file the Standard Form 424B, Assurances: Non-Construction Programs (approved by the Office of Management and Budget under control number 0348-0040). Applicants must sign and return the Standard Form 424B with their application. Applicants must provide a certification concerning lobbying. Prior to receiving an award in excess of $100,000, applicants shall furnish an executed copy of the lobbying certification (approved by the Office of Management and Budget under control number 0348-0046). Applicants must sign and return the certification with their application.

Applicants must make the appropriate certification of their compliance with the Drug-Free Workplace Act of 1988. By signing and submitting the application, applicants are providing the certification and need not mail back the certification with the application.

Applicants must make the appropriate certification that they are not presently debarred, suspended or otherwise ineligible for award. By signing and submitting the application, applicants are providing the certification and need not mail back the certification with the application.

Applicants must also understand that they will be held accountable for the smoking prohibition included within Pub. L. 103-227, part C Environmental Tobacco Smoke (also known as The Pro-Children's Act of 1994). A copy of the Federal Register notice that implements the smoking prohibition is included with the forms. By signing and submitting the application, applicants are providing the certification and need not mail back the certification with the application.

All applicants for research projects must provide a Protection of Human Subjects Assurance as specified in the policy described on the HHS Form 596 (approved by the Office of Management and Budget under control number 0925-0418). If there is a question regarding the applicability of this assurance, contact the Office for Protection from Research Risks of the National Institutes of Health at (301)-496-7041. Those applying for or currently conducting research projects are further advised of the availability of a Certificate of Confidentiality through the National Institute of Mental Health of the Department of Health and Human Services. To obtain more information and to apply for a Certificate of Confidentiality, contact the Division of Extramural Activities of the National Institute of Mental Health at (301) 443-4673.

B. Application Limits

The narrative of the application should be double-spaced and single-sided on 8½″ × 11″ plain white paper, with 1” margins on all sides. Use only a standard size font no smaller than 12 pitch throughout the proposal. All pages of the narrative of the application (including appendices, resumes, charts, references/footnotes, tables, maps and exhibits) must be sequentially numbered, beginning on the first page after the budget justification, the principal investigator contact information and the Table of Contents. The length of the application, including the narrative, and excluding the appendices and resumes must not exceed 65 pages. Anything over 65 pages will be removed and not considered by the reviewers. The project summary should not be counted in the 65 pages. Applicants are requested not to send pamphlets, brochures, or other printed material along with their applications as these pose copying difficulties. These materials, if submitted, will not be included in the review process. In addition, applicants must not submit any additional letters of endorsement beyond any that may be required. Applicants may omit from the application copies (not the original) specific salary rates or amounts for individuals specified in the application budget and social security numbers if otherwise required for individuals. The copies may include summary salary information.

Applicants are encouraged to submit curriculum vitae using “Biographical Sketch” forms used by some government agencies.

Please note that applicants that do not comply with the requirements in the section on “Eligible Applicants” will not be included in the review process.

C. Checklist for a Complete Application

The checklist below is for your use to ensure that the application package has been properly prepared.

—One original, signed and dated application plus two copies.

—Attachments/Appendices, when included, should be used only to provide supporting documentation such as resumes, and letters of agreement/support.

Front Matter:

• Cover Letter

• Table of Contents

• Project Abstract

(1) Application for Federal Assistance (SF 424, REV. 4-92);

(2) Budget information-Non-Construction Programs (SF424A&B REV.4-92);

(3) Budget Justification, including subcontract agency budgets;

(4) Letter from the AIANPB Head Start program certifying that the program is a partner of the TCU;

(5) Application Narrative, excluding Appendices and resumes (not to exceed 65 pages);

(6) Proof that the organization is a TCU.

(7) Assurances Non-Construction Programs;

(8) Certification Regarding Lobbying;

(9) Where appropriate, a completed SPOC certification with the date of SPOC contact entered in line 16, page 1 of the SF 424, REV.4-92;

(10) Certification of Protection of Human Subjects.

D. Due Date for the Receipt of Applications

Deadlines: The closing date for the submission of applications is 4:30 p.m. (EDT) on August 20, 2003. Applications received after the closing date will be classified as late and not considered for funding. Applications should be mailed to: ACYF Operations Center, 1150 Connecticut Avenue, NW., Suite 1100, Washington, DC 20036, Telephone: 1-800-351-2293.

Application for Head Start Discretionary Grants: Head Start Partnerships with Tribally Controlled Land Grant Colleges and Universities (TCUs). Applications received after the closing date and time will be classified as late.

Applications hand carried by applicants, courier services, or by overnight/express mail couriers shall be considered as meeting the announced deadline only if they are received on or before the deadline date, between the hours of 8 a.m. and 4:30 p.m., at the ACYF Operations Center, 1150 Connecticut Avenue, NW., Suite 1100, Washington, DC 20036, between Monday and Friday (excluding Federal holidays). (Applicants are cautioned that express/overnight mail services do not always deliver as agreed.)

ACYF cannot accommodate transmission of applications by fax or through other electronic media. Therefore, applications transmitted to ACYF electronically will not be accepted regardless of date or time of submission and time of receipt.

Late applications: Applications which do not meet the criteria above are considered late applications. ACF shall notify each late applicant that its application will not be considered.

Extension of deadlines: ACF may extend an application deadline for applicants affected by acts of God such as floods, hurricanes, or when there is widespread disruption of the mail, or when it is anticipated that many applications will come from rural or remote areas. A determination to waive or extend deadline requirements rests with the Chief Grants Management Officer.

E. Paperwork Reduction Act of 1995

Under the Paperwork Reduction Act of 1995, Pub. L. 104-13, the Department is required to submit to OMB for review and approval any reporting and record keeping requirements in regulations including program announcements. All information collections within this program announcement are approved under the following current valid OMB control numbers 0970-0139 which expires 12/31/2003.

Public reporting burden for this collection is estimated to average 10 hours per response, including the time for reviewing instructions, gathering and maintaining the data needed and reviewing the collection of information.

An agency may not conduct or sponsor and a person is not required to respond to, a collection of information unless it displays a currently valid OMB control number.

F. Required Notification of the State Single Point of Contact

This program is covered under Executive Order 12372, Intergovernmental Review of Federal Programs, and 45 CFR part 100, Intergovernmental Review of Department of Health and Human Services Program and Activities. Under the Order, States may design their own processes for reviewing and commenting on proposed Federal assistance under covered programs.

All States and Territories except Alabama, Alaska, Arizona, Colorado, Connecticut, Hawaii, Idaho, Indiana, Kansas, Louisiana, Massachusetts, Minnesota, Montana, Nebraska, New Jersey, Ohio, Oklahoma, Oregon, Pennsylvania, South Dakota, Tennessee, Vermont, Virginia, Washington, Wyoming, and Palau have elected to participate in the Executive Order process and have established Single Points of Contact (SPOCs). Applicants from these twenty-six jurisdictions need take no action regarding E.O. 12372. Applicants for projects to be administered by Federally-recognized Indian Tribes are also exempt from the requirements of E.O. 12372.

All remaining jurisdictions participate in the Executive Order process and have established SPOCs. Applicants from participating jurisdictions should contact their SPOCs as soon as possible to alert them of the prospective applications and receive instructions. The applicant must submit all required materials, if any, to the SPOC and indicate the date of the submittal (or the date of contact if no submittal is required) on the Standard Form 424, item 16a. Under 45 CFR 100.8(a)(2), a SPOC has 60 days from the application deadline to comment on proposed new or competing continuation awards. Applicants must submit any required material to the SPOCs as soon as possible so that the Federal program office can obtain and review SPOC comments as part of the award process. A listing of the SPOC for each participating state and territory with contact and address information is available at http://whitehouse.gov/omb/grants/spoc.html.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger the accommodate or explain rule.

When comments are submitted directly to ACF, they should be addressed to: William Wilson, ACYF/Office of Grants Management, 330 C Street SW, Washington, DC 20447, Attn: Head Start Partnerships with Tribally Controlled Land Grant Colleges and Universities. A list of the Single Points of Contact for each State and Territory can be found on the Web site: http://www.whitehouse.gov/omb/grants/spoc.html.

Catalogue of Federal Domestic Assistance 93.600.
Dated: July 10, 2003.
Joan E. Ohl,
Commissioner, Administration on Children, Youth and Families.

Appendix A—List of Tribally Controlled Land Grant Colleges/Universities

1999 Institutions (Expiring FY 2003)

1. College of Menominee Nation

2. Fort Peck Community College

3. Leech Lake Community College

4. Northwest Community College

5. Sitting Bull College

6. Stone Child Community College

2000 Institutions (Expiring FY 2003)

1. Bay Mills Community College

2. Blackfeet Community College

3. Dull Knife College

4. Ft. Belknap

5. Little Big Horn College

6. Oglala Lakota

7. SIPI College

2001 Institutions (Expiring FY 2006)

1. Fond du Lac Tribal and Community College

2. Salish Kootenai College

3. Sinte Glaska University

[FR Doc. 03-18167 Filed 7-18-03; 8:45 am]

BILLING CODE 4184-01-P